DEPARTMENT OF COMMERCE

International Trade Administration

[A-201-820]

Fresh Tomatoes From Mexico: Notification of Implementation of Inspection Program

AGENCY: Enforcement and Compliance, International Trade Administration, Department of Commerce

DATES: Applicable February 4, 2020.

SUMMARY: The Department of Commerce (Commerce) hereby notifies the public and members of the trade community of the implementation of the inspection program established by Section VII.C of the 2019 Agreement Suspending the Antidumping Duty Investigation on Fresh Tomatoes from Mexico (2019 Suspension Agreement). Implementation of the Section VII.C inspection program will begin 60 days from the date of publication of this notice. Beginning 60 days from the date of publication of this notice, certain fresh tomatoes from Mexico shall be subject to a United States Department of Agriculture (USDA) inspection for quality and condition defects.

FOR FURTHER INFORMATION CONTACT: Sally C. Gannon or David Cordell at (202) 482-0162 or (202) 482-0408, respectively; Bilateral Agreements Unit, Office of Policy, Enforcement and Compliance, International Trade Administration, U.S. Department of Commerce, 1401 Constitution Avenue NW, Washington, DC 20230.

SUPPLEMENTARY INFORMATION:

Background

On September 19, 2019, Commerce and signatory producers/exporters accounting for substantially all imports of fresh tomatoes from Mexico signed the 2019 Suspension Agreement.¹ Section VII.C of the 2019 Suspension Agreement states: “Beginning approximately (and no less than) six months from the Effective Date of the Agreement, all loads of subject merchandise, as specified in paragraph 2 of this section, shall be subject to a USDA inspection for quality and condition defects near the border after entering the United States. Commerce will consult with USDA on the development and implementation of the inspection program. The trade community will have at least 60 days' advance notice prior to implementation of the inspection program.” ²

¹ See Fresh Tomatoes From Mexico: Suspension of Antidumping Duty Investigation, 84 FR 49987 (September 24, 2019) (2019 Suspension Agreement).

² See Section VII.C.1 of the 2019 Suspension Agreement.

Scope of Agreement

See Section I, Product Coverage, of the 2019 Suspension Agreement.

Notification

Consistent with the 2019 Suspension Agreement, this Federal Register notice provides 60 days' advance notice prior to the implementation of the inspection program, which has been developed by USDA, in consultation with Commerce, as specified in the 2019 Suspension Agreement. The inspection program, as outlined in Section VII.C of the 2019 Suspension Agreement, will begin 60 days from the date of publication of this notice. Beginning 60 days from the date of publication of this notice, all Fresh Tomatoes from Mexico, with the exception of Tomatoes on the Vine, Specialty tomatoes, and grape tomatoes in retail packages of 2 pounds or less, shall be subject to a USDA inspection for quality and condition defects consistent with Section VII.C of the 2019 Suspension Agreement, and in accordance with USDA procedures as determined by USDA.³ (See Section II of the 2019 Suspension Agreement for definitions of certain terms in the preceding sentence.)

³ For avoidance of doubt, all loads of Fresh Tomatoes from Mexico that are inspected pursuant to a USDA marketing order are not required to also be inspected pursuant to the inspection program under this section VII.C. See id.

As provided in the 2019 Suspension Agreement, importers of tomatoes subject to inspection must request the USDA inspection and pay the associated USDA fees.⁴ USDA will perform inspections (an unrestricted certification) in accordance with its normal practice to determine quality, condition, and grade pursuant to the appropriate USDA standard covering fresh tomatoes and greenhouse tomatoes and using shipping point tolerances.⁵ After the USDA inspection, the importer will receive an inspection certificate, which must be maintained by the importer and is subject to submission to, and verification by, Commerce, consistent with the importer's contractual obligation with the Signatory.⁶ If a lot of Signatory tomatoes has more defects than the tolerances established in the USDA standards, then the importer may opt either to recondition and re-inspect the lot, or return it to Mexico, consistent with the requirements of the 2019 Suspension Agreement.⁷

⁴ See Section VII.C.2 of the 2019 Suspension Agreement.

⁵ See Section VII.C.3 of the 2019 Suspension Agreement.

⁶ See Section VII.C.4 of the 2019 Suspension Agreement.

⁷ See id.

Dated: January 30, 2020.
Jeffrey I. Kessler,
Assistant Secretary for Enforcement and Compliance.

[FR Doc. 2020-02166 Filed 2-3-20; 8:45 am]

BILLING CODE 3510-DS-P